INTERNATIONAL TRADE COMMISSION

[Investigation No. 332-586]

Foreign Censorship Part 2: Trade and Economic Effects on U.S. Businesses; Written Submission Deadline

AGENCY: International Trade Commission.

ACTION: Notice of request for written submissions from the public regarding Investigation No. 332-586.

SUMMARY: The Commission seeks information from the public on the impacts of foreign censorship on U.S. businesses, in connection with Investigation No. 332-586, Foreign Censorship Part 2: Trade and Economic Effects on U.S. Businesses.

DATES: January 14, 2022: Deadline for filing written submissions for Investigation No. 332-586.

ADDRESSES: All Commission offices are located in the U.S. International Trade Commission Building, 500 E Street SW, Washington, DC. Due to the COVID 19 pandemic, the Commission's building is currently closed to the public. Once the building reopens, persons with mobility impairments who will need special assistance in gaining access to the Commission should contact the Office of the Secretary at 202-205-2000.

FOR FURTHER INFORMATION CONTACT: The project leaders for this investigation are Ricky Ubee, Shova KC, and George Serletis. The Commission is currently unable to accept paper correspondence for this investigation. Please direct all questions and comments about this investigation electronically to the project leaders via email at foreign.censorship@usitc.gov or by phone at 202-205-3493.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION: The Commission seeks written submissions in connection with Investigation No. 332-586, Foreign Censorship Part 2: Trade and Economic Effects on U.S. Businesses, instituted under the authority of section 332(g) of the Tariff Act of 1930 (19 U.S.C. 1332(g)). This investigation and report were requested by the Committee on Finance (Committee) of the U.S. Senate in a letter dated April 7, 2021 (revised from a request received January 4, 2021). This investigation was initiated on May 6, 2021 and notice was published in the Federal Register on May 12, 2021 (86 FR 26064).

As stated in the initiating notice for this investigation, the Committee has asked the Commission to provide an analysis of the impacts of foreign censorship policies and practices in key markets on U.S. businesses. The report will include, to the extent practicable, including through the use of survey data, an analysis of the trade and economic effects of such policies and practices on affected businesses in the United States and their global operations. The analysis will include to the extent practicable, quantitative and qualitative impacts of the identified policies, including by reference, where identifiable, to:

a. Impact on employment;

b. direct costs (e.g., compliance and entry costs);

c. foregone revenue and sales;

d. self-censorship; and

e. other effects the Commission considers relevant for the Committee to know.

Written Submissions: “Written submissions” refers to any written submissions that interested persons wish to make, regardless of whether they appeared at the hearing, and may include new information or updates of information previously provided. Written submissions should provide information that will assist the Commission in analyzing foreign censorship's impacts on (1) employment, (2) direct costs to businesses (e.g., compliance and entry costs), (3) foregone revenue and sales, (4) self-censorship, and (5) other effects that you view as falling within the scope of the Committee's request. The Commission is scheduled to deliver its report to the Committee by July 5, 2022.

All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

In accordance with the provisions of section 201.8 of the Commission's Rules of Practice and Procedure (19 CFR 201.8) the document must identify on its cover (1) the investigation number and title and the type of document filed (i.e., written submission), (2) the name and signature of the person filing it, (3) the name of the organization that the submission is filed on behalf of, and (4) whether it contains confidential business information (CBI). If it contains CBI, it must comply with the marking and other requirements set out below in this notice relating to CBI. Submitters are encouraged to include a short summary of their position or interest at the beginning of the document, and a table of contents when the document addresses multiple issues.

Confidential Business Information: Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committee, the Commission will not include any confidential business information in its report. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a way that would reveal the operations of the firm supplying the information.

Summaries of Written Submissions: Persons wishing to have a summary of their position included in the report should include a summary with their written submission on or before January 14, 2022 and should mark the summary as having been provided for that purpose. The summary should be clearly marked as “summary for inclusion in the part 2 report” at the top of the page. The summary may not exceed 500 words should not include any confidential business information. The summary will be published as provided if it meets these requirements and is germane to the subject matter of the investigation. The Commission will list the name of the organization furnishing the summary and will include a link to the Commission's Electronic Document Information System (EDIS) where the written submission can be found.

By order of the Commission.
Issued: December 8, 2021.
Lisa Barton,
Secretary to the Commission.

[FR Doc. 2021-26911 Filed 12-10-21; 8:45 am]

BILLING CODE 7020-02-P